DEPARTMENT OF TRANSPORTATION

Federal Railroad Administration

Notice of Application for Approval of Discontinuance or Modification of a Railroad Signal System or Relief From Requirements

Pursuant to Title 49 Code of Federal Regulations (CFR) Part 235 and 49 U.S.C. 20502(a), the following railroads have petitioned the Federal Railroad Administration (FRA) seeking approval for the discontinuance or modification of the signal system or relief from the requirements of 49 CFR Part 236 as detailed below.

Docket No. FRA-2000-8039

Applicant: CSX Transportation, Mr. E.G. Peterson, Assistant Chief Engineer, Signal Design and Construction 4901 Belfort Road, Suite 130 (S/C J-370), Jacksonville, Florida 32256.

CSX Transportation seeks approval of the proposed modification of the traffic control system, on the single main track, at W. E. Stephensport, Kentucky, milepost HR-65.4, LH & STL Subdivision, Louisville Service Lane, consisting of the discontinuance and removal of absolute controlled signals 55L and 55R. The proposed changes are associated with the previous removal of the siding.

The reason given for the proposed changes is to eliminate facilities no longer needed in present day operations.

Any interested party desiring to protest the granting of an application shall set forth specifically the grounds upon which the protest is made, and contain a concise statement of the interest of the protestant in the proceeding. Additionally, one copy of the protest shall be furnished to the applicant at the address listed above.

All communications concerning this proceeding should be identified by the docket number and must be submitted to the Docket Clerk, DOT Central Docket Management Facility, Room PI-401, Washington, D.C. 20590-0001. Communications received within 45 days of the date of this notice will be considered by the FRA before final action is taken. Comments received after that date will be considered as far as practicable. All written communications concerning these proceedings are available for examination during regular business hours (9 a.m.-5 p.m.) at DOT Central Docket Management Facility, Room PI-401 (Plaza Level), 400 Seventh Street, S.W., Washington, D.C. 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, D.C. on November 27, 2000.
Edward R. English,
Director, Office of Safety Assurance and Compliance.

[FR Doc. 00-30530 Filed 11-29-00; 8:45 am]

BILLING CODE 4910-06-P